DEPARTMENT OF ENERGY

Federal Energy Regulatory Commission

[Project No. 344-023]

Southern California Edison Company; Notice of Availability of Final Environmental Assessment

In accordance with the National Environmental Policy Act of 1969 and the Federal Energy Regulatory Commission's (Commission or FERC's) regulations, 18 Code of Federal Regulations (CFR) Part 380 (Order No. 486, 52 Federal Register 47897), the Office of Energy Projects has prepared a final environmental assessment (EA) for an application filed by Southern California Edison Company (licensee) on September 28, 2010, requesting Commission approval to surrender the project license for the San Gorgonio Hydroelectric Power Project, located on the San Gorgonio and Whitewater rivers in San Bernardino and Riverside counties, California. Following surrender of the license, the licensee would transfer some of the project facilities to San Gorgonio Pass Water Agency, Banning Heights Mutual Water Company, and the City of Banning, California, to allow continuation of water deliveries to the local communities.

The final EA evaluates the environmental effects that would result from approving the licensee's proposed surrender. The final EA finds that approval of the application would not constitute a major federal action significantly affecting the quality of the human environment.

A copy of the final EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY contact (202) 502-8695.

You may register online at http://www.ferc.gov/docs-filing/esubscription.asp to be notified via email of new filings and issuances related to this or other pending projects. For assistance, contact FERC Online Support.

Dated: July 3, 2013.
Kimberly D. Bose,
Secretary.

[FR Doc. 2013-16561 Filed 7-9-13; 8:45 am]

BILLING CODE 6717-01-P